DEPARTMENT OF AGRICULTURE

Forest Service

Northeast Oregon Forests Resource Advisory Committee (RAC)

AGENCY: Forest Service, USDA.

ACTION: Notice of meetings.

SUMMARY: Pursuant to the authorities in the Federal Advisory Committees Act (Pub. L. 92-463), the Northeast Oregon Forests Resource Advisory Committee (RAC) will meet on September 19 and 20, 2005 in La Grande, Oregon. The purpose of the meeting is to meet as a Committee to review proposed projects for fiscal year 2006 and to review projects in the field.

DATES: The meeting will be held as follows: September 19, 2005, 1 p.m. to 5 p.m. in La Grande, Oregon; September 20, 2005, 8 a.m. to 3 p.m. in La Grande, Oregon.

ADDRESSES: The September 19, 2005 meeting will be held at the Blue Mountain Conference Center, 404 12th Street, La Grande, Oregon.

FOR FURTHER INFORMATION CONTACT: Jennifer Harris, Designated Federal Official, USDA, Malheur National Forest, P.O. Box 909, John Day, Oregon 97845. Phone: (541) 575-3008.

SUPPLEMENTARY INFORMATION: At the September 19, 2005 meeting the RAC will finish reviewing proposed projects for the coming year. A public comment period will be provided at 1:40 p.m. and individuals will have the opportunity to address the committee at that time. The September 20, 2005 field trip will leave from the La Grande Ranger District, Highway 30, La Grande, Oregon.

Dated: September 7, 2005.
Jennifer L. Harris,
Designated Federal Official.

[FR Doc. 05-18054 Filed 9-12-05; 8:45 am]

BILLING CODE 3410-DK-M